COMMISSION ON CIVIL RIGHTS

Sunshine Act Meetings

AGENCY: United States Commission on Civil Rights.

ACTION: Notice of Commission public business meeting.

DATES: Friday, October 21, 2022, 10:00 a.m. EST.

ADDRESSES: Meeting to take place telephonically and is open to the public via phone at 1-866-269-4260; Confirmation Code: 1776207.

FOR FURTHER INFORMATION CONTACT: Angelia Rorison: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, October 21, 2022, is https://www.streamtext.net/player?event=USCCR. Please note that CART is text-only translation that occurs in real time during the meeting and is not an exact transcript.

Meeting Agenda

I. Approval of Agenda

II. Business Meeting

A. Presentations by State Advisory Committee Chairs on Released Reports and Memorandums

B. Discussion and Vote on Advisory Committee Appointments

C. Discussion and Vote on Advisory Committee (SAC) Report

D. Discussion and Vote on FY 2023 SE Anti-Asian Racism Planning Documents

E. Management and Operations

• Staff Director's Report

Adjourn Meeting

Dated: October 13, 2022.
Angelia Rorison,
USCCR Media and Communications Director.

[FR Doc. 2022-22635 Filed 10-13-22; 4:15 pm]

BILLING CODE 6335-01-P